DEPARTMENT OF VETERANS AFFAIRS

Funding Availability Under VA's Homeless Providers Grant and Per Diem Program

AGENCY: Department of Veterans Affairs.

ACTION: Notice of funding availability (NOFA)

SUMMARY: The U.S. Department of Veterans Affairs (VA) is announcing the availability of funds for assistance under the Per Diem Only (PDO) component of VA's Homeless Providers Grant and Per Diem (GPD) Program. This Notice of Funding Availability (NOFA) is for those current “Transition in Place” (TIP) grantees who seek to renew their 2012 TIP PDO grants. This NOFA contains information concerning the program, application process, and amount of funding available.

DATES: An original signed and dated, request for reapplication letter on agency letterhead for assistance under VA's Homeless Providers GPD Program must be received in the GPD Program Office, by 4:00 p.m. Eastern Time on April 20, 2015, (see Submission Dates and Times below for additional requirements).

In the interest of fairness to all competing applicants, this deadline is firm as to date and hour, and VA will treat as ineligible for consideration any application that is received after the deadline. Applicants should take this practice into account and make early submission of their material to avoid any risk of loss of eligibility brought about by unanticipated delays or other delivery-related problems.

ADDRESSES: An original signed and dated, request for reapplication letter on agency letterhead must be submitted to the following address: VA Homeless Providers Grant and Per Diem Field Office, 10770 North 46th Street, Suite C-200, Tampa, FL 33617.

FOR FURTHER INFORMATION CONTACT: Mr. Jeffery Quarles, Director, VA's Homeless Providers Grant and Per Diem Program, Department of Veterans Affairs, 10770 North 46th Street, Suite C-200, Tampa, FL 33617; (toll-free) (877) 332-0334.

SUPPLEMENTARY INFORMATION: This NOFA announces the availability of renewal funding in the form of per diem payments under VA's Homeless Providers GPD Program for current TIP PDO grantees. The authority for this NOFA is the Homeless Veterans Comprehensive Assistance Act of 2001, Public Law 107-95, sec. 5, codified as amended by Public Law 112-154, at 38 U.S.C. 2011, 2012, 2013, 2061, and 38 CFR part 61.

Award Information: VA is pleased to issue this NOFA under VA's Homeless Providers GPD Program as a part of the effort to end homelessness among our Nation's Veterans. VA expects to fund approximately 500 beds over a 3-year period under this NOFA. The maximum award of $1.2 million will support an average of 25 beds per night, per project, at the current maximum per diem rate of $43.32; taking into consideration that the maximum per diem rate may increase in future years. Note: The final amount awarded may be adjusted based on any remaining funding from the previous award.

Funding Priorities: None.

Funding Actions: Conditionally selected applicants will complete a grant funding agreement with VA in accordance with 38 CFR 61.61 and provide any additional information as required by VA. Upon signature by the Secretary or designated representative final selection will be completed.

VA will make per diem payments in a method consistent with VA policy. Per diem will be paid only for eligible Veterans (i.e., Veterans whom VA refers to the grantee, or for whom VA authorizes the provision of services) and will be available for the periods of awards specified in this NOFA. All payment specifics will be given to the grantee at the time of award. At no time may grantees draw more than the maximum approved per diem rate as authorized by VA's GPD Program Office. All costs charged to the per diem grant must be allowable under the applicable OMB Circulars for Grants Management.

Grant Award Period: For the purposes of this NOFA the award period will be approximately three (3) years beginning at the time of award final selection and announcement (on or about October 1, 2015) and ending approximately on September 30, 2018. Specific start and end dates will be included in the grant agreement between final selectees and VA. For the purposes of this NOFA the award period will not exceed three (3) years.

Eligibility Information: Existing fiscal year (FY) 2012 TIP PDO grantees are eligible to apply for renewal funding under this NOFA.

Cost Sharing or Matching: None.

Application and Submission Information: An application package is not needed for this NOFA. Applicants submitting a letter requesting re-application on their agency's letterhead agree to VA using their previously awarded FY 2012 TIP PDO application for scoring purposes.

Content and Form of Application: Applicants must submit a letter requesting re-application on their agency's letterhead. Failure to submit a re-application letter will result in the agency not being considered for renewal funding.

Applicants who are conditionally selected will be notified of any additional information needed to confirm or clarify information provided in the application. Applicants will then be notified of the deadline to submit such information. If an applicant is unable to meet any conditions for grant award within the specified time frame, VA reserves the right to not award funds and to use the funds available for other grant and per diem applicants.

Submission Dates and Times: An original signed and dated, request for re-application letter on agency letterhead requesting renewal assistance under VA's Homeless Providers GPD Program must be received in the GPD Program Office, by 4:00 p.m. Eastern Time on April 20, 2015.

In the interest of fairness to all competing applicants, this deadline is firm as to date and hour, and VA will treat as ineligible for consideration any application that is received after the deadline. Applicants should take this practice into account and make early submission of their material to avoid any risk of loss of eligibility brought about by unanticipated delays or other delivery-related problems.

For applications physically delivered (i.e., in person, United States Postal Service, FedEx, United Parcel Service (UPS), or any other type of courier) the VA GPD Program Office staff will accept the application and date stamp it immediately at the time of arrival. This is the date and time that will determine if the deadline is met for those types of delivery. DO NOT fax or email the application as it will be treated as ineligible for consideration.

Funding Restrictions: Applicants may not receive assistance to replace funds provided by any State or local government to assist homeless persons.

Agencies may not increase the number of beds awarded as stated in their FY 2012 grant application.

Other Submission Requirements: None.

Application Review Information

A. Criteria For Facility Capital Grants: Rating criteria may be found at 38 CFR 61.13.

B. Review and Selection Process: Review and selection process may be found at 38 CFR 61.14.

A full copy of the regulations governing the GPD Program is available at the GPD Web site at http://www.va.gov/HOMELESS/GPD.asp.

Award Notice: Although subject to change, the GPD Program Office expects the announcement of grant awards during the late fourth quarter of FY 2015 (September). The initial announcement will be made via news release which will be posted on the GPD Web site at www.va.gov/homeless/gpd.asp. Following the initial announcement, the GPD Program Office will mail a notification letter to the grant recipients. Applicants that are not selected will be mailed a declination letter within 2 weeks of the initial announcement.

Administrative and National Policy: It is important to be aware that VA places great emphasis on responsibility and accountability. VA has procedures in place to monitor services provided to homeless Veterans and outcomes associated with the services provided in GPD-funded programs. Applicants should be aware of the following:

Awardees will be required to support their request for payments with adequate fiscal documentation as to project expenses and in the case of per diem payments income and expenses.

All awardees that are selected in response to this NOFA must meet the requirements of the current edition of the Life Safety Code of the National Fire Protection Association as it relates to their specific facility. Applicants should note that all facilities are to be protected throughout by an approved automatic sprinkler system unless a facility is specifically exempted under the Life Safety Code. Applicants should make consideration of this when submitting their grant applications as no additional funds will be made available for capital improvements under this NOFA.

Each program seeking per diem will have a liaison appointed from a nearby VA medical facility to provide oversight and monitor services provided to homeless Veterans in the per diem-funded program.

Monitoring will include at a minimum, a quarterly review of each per diem program's progress toward meeting internal goals and objectives in helping Veterans attain housing stability, adequate income support, and self sufficiency as identified in each per diem program's original application. Monitoring will also include a review of the agency's income and expenses as they relate to this project to ensure per diem payment is accurate.

Each per diem-funded program will participate in VA's national program monitoring and evaluation system administered by VA's Northeast Program Evaluation Center (NEPEC). NEPEC's monitoring procedures will be used to determine successful accomplishment of these housing outcomes for each per diem-funded program.

Leases under TIP: Several questions have arisen with regard to leases in the GPD/TIP. The VA National GPD Program Office has developed the following Sub-Lease guidance in regard to TIP under GPD.

Lease Guarantors: When a third party (in this case the grantee) guarantees to pay the lease costs if the lessee (in this case the Veteran) defaults. This is not allowed under this program.

Sub-lease: The sub-lease is “[a] lease by a lessee (in this case the grantee) to a third party (the Veteran) conveying a subordinate right to occupy or use (as applicable) all or a portion of the leased property, under stipulated terms and conditions. For the sake of clarity, in a sub-lease TIP housing scenario, the landlord is the lessor, the grantee is the lessee, and the Veteran is the sub-lessee.

GPD TIP Grantees may use sub-leases during the transitional housing phase if the sub-lease has been approved by the GPD Program Office and the sub-lease meets the following conditions:

1. Period of sub-lease must be less than entire period of the grantee's lease with the landlord.

2. Grantee lease renewal must be taken into consideration when stating the period of the sub-lease.

3. Sub-lease must be explicit that the grantee is the lessee not the Veteran.

4. Sub-lease must stipulate that it will end (terminate) without any cost or liability owed from the Veteran to the lessee, if the Veteran vacates the sub-leased space prior to program completion.

5. Sub-lease may not contain requirements contrary to GPD regulations, and each sub-lease should expressly state that the lease is subordinate to GPD's regulations.

6. Security deposits may not be charged to Veterans. However, grantee lessees may take other appropriate steps (if available under applicable law) in situations of property destruction.

Lease Assumption: If and when a third party (in this case the Veteran) contractually assumes a lease from a lessee, the original lessee does not retain any legal interest in the lease, unless and to the extent that the assignment contract stipulates otherwise. In no event should any such exceptions violate GPD regulations.

Signing Authority

The Secretary of Veterans Affairs, or designee, approved this document and authorized the undersigned to sign and submit the document to the Office of the Federal Register for publication electronically as an official document of the Department of Veterans Affairs. Jose D. Riojas, Chief of Staff, Department of Veterans Affairs, approved this document on January 5, 2015, for publication.

Dated: January 13, 2014.
William F. Russo,
Acting Director, Office of Regulation Policy & Management, Office of the General Counsel, Department of Veterans Affairs.

[FR Doc. 2015-00715 Filed 1-15-15; 8:45 am]

BILLING CODE 8320-01-P